LEGAL SERVICES CORPORATION

Sunshine Act Meeting of the Board of Directors Ad Hoc Committee on Performance Reviews of the President and Inspector General

Time and Date: The Ad Hoc Committee on Performance Reviews of the President and Acting Inspector General of the Legal Services Corporation's Board of Directors will meet on January 31, 2003. The meeting will begin at 4:30 p.m. and continue until conclusion of the committee's agenda.

Location: The Washington Court Hotel, 525 New Jersey Avenue, NW, Washington, DC.

Status of Meeting: Except for approval of the committee's agenda and any miscellaneous business that may come before the committee, the meeting will be closed to the public. The closing is authorized by the relevant provisions of the Government in the Sunshine Act [5 U.S.C. 552b(c)(2) & (6)] and the corresponding provisions of the Legal Services Corporation's implementing regulation [45 CFR 1622.5(a) & (e)]. A copy of the General Counsel's Certification that the closing is authorized by law will be available upon request.

Matters to be Considered:

Open Session

1. Approval of agenda.

2. Approval of the minutes of the Committee's meeting of November 9, 2002.

Closed Session

3. Consider and act on recommendations to the Board of Directors on the annual evaluation of the President for FY 2002.

4. Consider and act on recommendations to the Board of Directors on the annual evaluation of the Acting Inspector General for FY 2002.

Open Session

5. Consider and act on other business.

6. Public comment.

Contact Person for Information: Victor M. Fortuno, Vice President for Legal Affairs, General Counsel and Corporate Secretary, at (202) 336-8800.

Special Needs: Upon request, meeting notices will be made available in alternate formats to accommodate visual and hearing impairments. Individuals who have a disability and need an accommodation to attend the meeting may notify Elizabeth S. Cushing at (202) 336-8800.

Dated: January 23, 2003.
Victor M. Fortuno,
Vice President for Legal Affairs, General Counsel, and Corporate Secretary.

[FR Doc. 03-1993 Filed 1-24-03; 8:45 am]

BILLING CODE 7050-01-P